DEPARTMENT OF JUSTICE

Antitrust Division

Notice Pursuant to the National Cooperative Research and Production Act of 1993—Health Product Declaration Collaborative, Inc.

Notice is hereby given that, on April 2, 2014, pursuant to Section 6(a) of the National Cooperative Research and Production Act of 1993, 15 U.S.C. 4301 et seq. (“the Act”), Health Product Declaration Collaborative, Inc. (“HPDC”) has filed written notifications simultaneously with the Attorney General and the Federal Trade Commission disclosing changes in its membership. The notifications were filed for the purpose of extending the Act's provisions limiting the recovery of antitrust plaintiffs to actual damages under specified circumstances. Specifically, Aden Company, Charleston, SC; GGLO, LLC, Seattle, WA; Pankow Corporation, Oakland, CA; Rachel Routman (individual member), Atlanta, GA; ThyssenKrupp Elevator Americas, Frisco, TX; U.S. Green Building Council, Washington, DC; and William Hawkins (individual member), Bethany, CT, have been added as parties to this venture.

No other changes have been made in either the membership or planned activity of the group research project. Membership in this group research project remains open, and HPDC intends to file additional written notifications disclosing all changes in membership.

On February 12, 2013, HPDC filed its original notification pursuant to Section 6(a) of the Act. The Department of Justice published a notice in the Federal Register pursuant to Section 6(b) of the Act on March 7, 2013 (78 FR 14837).

The last notification was filed with the Department on July 18, 2013. A notice was published in the Federal Register pursuant to Section 6(b) of the Act on August 26, 2013 (78 FR 52786).

Patricia A. Brink,
Director of Civil Enforcement, Antitrust Division.

[FR Doc. 2014-09784 Filed 4-29-14; 8:45 am]

BILLING CODE P